DEPARTMENT OF TRANSPORTATION

Federal Aviation Administration

14 CFR Part 71

[Docket No. FAA-2008-0004; Airspace Docket No. 08-ASW-2]

Proposed Establishment of Class E Airspace; Huntsville, AR

AGENCY: Federal Aviation Administration (FAA), DOT.

ACTION: Direct final rule; confirmation of effective date.

SUMMARY: This action confirms the effective date of the direct final rule that establishes Class E airspace at Huntsville Municipal Airport, Huntsville, Arkansas, published in the Federal Register February 15, 2008 (73 FR 8794) Docket No. FAA-2008-0004.

DATES: Effective Dates: 0901 UTC April 10, 2008. The Director of the Federal Register approves this incorporation by reference action under Title 1, Code of Federal Regulations, part 51, subject to the annual revision of FAA Order 7400.9 and publication of conforming amendments.

SUPPLEMENTARY INFORMATION:

History

The FAA published a direct final rule with request for comments in the Federal Register February 15, 2008 (73 FR 8794), Docket No. FAA-2008-0004. The FAA uses the direct final rule procedure for non-controversial rules where the FAA believes that there will be no adverse public comment. This direct final rule advised the public that no adverse comments were anticipated, and that unless a written adverse comment, or a written notice of intent to submit an adverse comment, was received within the comment period, the regulation would become effective on April 10, 2008. No adverse comments were received; thus, this notice confirms that the direct final rule will become effective on this date.

* * * * *

Issued in Fort Worth, TX, on March 31, 2008.
Walter Tweedy,
Acting Manager, System Support Group, ATO Central Service Center.

[FR Doc. E8-7248 Filed 4-8-08; 8:45 am]

BILLING CODE 4910-13-M